DEPARTMENT OF LABOR

Employment and Training Administration

[TA-W-62,771]

Parlex U.S.A. Laminated Cable Division, Methuen, MA; Notice of Affirmative Determination Regarding Application for Reconsideration

By applications dated March 28, 2008, a petitioner requested administrative reconsideration of the Department of Labor's Notice of Negative Determination Regarding Eligibility to Apply for Worker Adjustment Assistance, applicable to workers and former workers of the subject firm. The denial notice was signed on February 14, 2008 and published in the Federal Register on February 29, 2008 (73 FR 11153).

The initial investigation resulted in a negative determination based on the finding that criteria (a)(2)(A)(I.A) and (a)(2)(B)(II.A) have not been met. The investigation revealed the number of workers separated during the relevant period did not constitute a significant number or proportion of the subject worker group (at least 5 percent) and there was no threat of future separations.

In the request for reconsideration, the petitioner provided additional information regarding the layoffs at the subject firm and indicated that there was a threat of worker separations at the subject firm in the future.

The Department has carefully reviewed the request for reconsideration and the existing record and determined that the Department will conduct further investigation.

Conclusion

After careful review of the application, I conclude that the claim is of sufficient weight to justify reconsideration of the Department of Labor's prior decision. The application is, therefore, granted.

Signed in Washington, DC, this 1st day of April, 2008.
Elliott S. Kushner,
Certifying Officer, Division of Trade Adjustment Assistance.

[FR Doc. E8-7738 Filed 4-10-08; 8:45 am]

BILLING CODE 4510-FN-P